SECURITIES AND EXCHANGE COMMISSION

[Release No. 34-91242; File No. SR-NYSE-2020-90]

Self-Regulatory Organizations; New York Stock Exchange LLC; Notice of Withdrawal of a Proposed Rule Change To Amend the Requirement Applicable to Special Purpose Acquisition Companies Upon Consummation of a Business Combination Concerning Compliance With the Round Lot Shareholder Requirement

March 2, 2021.

On October 27, 2020, New York Stock Exchange LLC (“NYSE” or “Exchange”) filed with the Securities and Exchange Commission (“Commission”), pursuant to Section 19(b)(1) of the Securities Exchange Act of 1934 (“Act”) ¹ and Rule 19b-4 thereunder,² a proposed rule change to amend its listing requirements applicable to special purpose acquisition companies upon consummation of a business combination by allowing such companies 15 calendar days following the closing of a business combination to demonstrate compliance with the Exchange's round lot shareholder requirement.

¹ 15 U.S.C.78s(b)(1).

² 17 CFR 240.19b-4.

The proposed rule change was published for comment in the Federal Register on November 16, 2020.³ On December 21, 2020, pursuant to Section 19(b)(2) of the Act,⁴ the Commission designated a longer period within which to approve the proposed rule change, disapprove the proposed rule change, or institute proceedings to determine whether to disapprove the proposed rule change to February 14, 2021.⁵ On February 12, 2021, the Commission instituted proceedings to determine whether to approve or disapprove the proposed rule change.⁶ On February 16, 2021, the Exchange withdrew the proposed rule change (SR-NYSE-2020-90).

³ See Securities Exchange Act Release No. 90382 (November 9, 2020), 85 FR 73121 (“Notice”). Comment on the proposed rule change is located at: https://www.sec.gov/comments/sr-nyse-2020-90/srnyse202090.htm.

⁴ 15 U.S.C. 78s(b)(2).

⁵ See Securities Exchange Act Release No. 90739, 85 FR 85759 (December 29, 2020).

⁶ See Securities Exchange Act Release No. 91120, 86 FR 10379 (February 19, 2021).

For the Commission, by the Division of Trading and Markets, pursuant to delegated authority.⁷
⁷ 17 CFR 200.30-3(a)(12).
J. Matthew DeLesDernier,
Assistant Secretary.

[FR Doc. 2021-04680 Filed 3-5-21; 8:45 am]

BILLING CODE 8011-01-P